DEPARTMENT OF DEFENSE

Department of the Army

[Docket ID: USA-2022-HQ-0007]

Submission for OMB Review; Comment Request

AGENCY: U.S. Army Corps of Engineers, Department of the Army, Department of Defense (DoD).

ACTION: 30-Day information collection notice.

SUMMARY: The DoD has submitted to the Office of Management and Budget (OMB) for clearance the following proposal for collection of information under the provisions of the Paperwork Reduction Act.

DATES: Consideration will be given to all comments received by May 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Gulf Intracoastal Waterway Shipper Interview Survey; OMB Control Number 0710-GIWW.

Type of Request: New.

Number of Respondents: 50.

Responses per Respondent: 1.

Annual Responses: 50.

Average Burden per Response: 60 minutes.

Annual Burden Hours: 50.

Needs and Uses: The U.S. Army Corps of Engineers (USACE) Galveston District, (SWG) seeks to conduct a survey of commercial shipping companies that use the Gulf Intracoastal Waterway (GIWW) to transport commodities along the Texas Coast. The area includes the crossings of the Brazos River and Colorado River in Texas. SWG will incorporate survey information into a General Investigation Feasibility Study Update of long-term solutions to shoaling and allisions near the intersections of the GIWW and the Brazos and Colorado rivers that could result in a potential loss of the navigation pool at the flood gates and locks. As part of the study, we are surveying shippers that use the GIWW to help us better understand the potential economic effects of a long-term disruption in navigation through the area. Part of the study requires an examination of how shippers would respond if navigation crossing the Brazos River and Colorado River was restricted for an extended period, or if the flood gates and locks are widened. The survey will provide information to determine if tentative project costs would be justified by reducing risks of losing the navigation pool along the GIWW.

Affected Public: Business or other for-profit.

Frequency: Once.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: April 5, 2023.
Aaron T. Siegel,
Alternate OSD Federal Register Liaison Officer, Department of Defense.

[FR Doc. 2023-07488 Filed 4-10-23; 8:45 am]

BILLING CODE 5001-06-P